FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 013760N

Name: Asia Trans Line NJ, Inc.

Address: 535 Secaucus Road, Secaucus, NJ 07094.

Date Revoked: June 10, 2005.

Reason: Failed to maintain a valid bond.

License Number: 018173N

Name: Export Cargo, Inc.

Address: 13100 NW 113 Avenue Road, Miami, FL 33178.

Date Revoked: May 26, 2005.

Reason: Failed to maintain a valid bond.

License Number: 018825N

Name: Nara Express, Inc.

Address: 401 E. Ocean Blvd., Suite 204, Long Beach, CA 90802.

Date Revoked: May 26, 2005.

Reason: Failed to maintain a valid bond.

License Number: 018731N

Name: Seabright Shipping, Inc.

Address: 1525 Seabright Avenue, Long Beach, CA 90803.

Date Revoked: May 18, 2005.

Reason: Failed to maintain a valid bond.

License Number: 003984F

Name: Superior Shipping, Inc.

Address: 13910 SW 28th Street, Miami, FL 33175.

Date Revoked: June 2, 2005.

Reason: Failed to maintain a valid bond.

License Number: 016266N

Name: Transtainer Costa Rica Corp.

Address: 8120 NW 29th Street, Miami, FL 33122.

Date Revoked: June 8, 2005.

Reason : Failed to maintain a valid bond.

License Number: 004560F

Name: Tur Enterprises, Inc. dba Seven Winds Shipping.

Address: 8443 NW 68th Street, Miami, FL 33166.

Date Revoked: May 25, 2005.

Reason: Failed to maintain a valid bond.

Sandra L. Kusumoto,
Director, Bureau of Certification and Licensing.

[FR Doc. 05-12247 Filed 6-21-05; 8:45 am]

BILLING CODE 6730-01-P